DEPARTMENT OF HOUSING AND URBAN DEVELOPMENT

[Docket Nos. FR-5800-N-04, FR-5800-N-06, FR-5800-N-06A]

Announcement of Funding Awards for Office of Lead Hazard Control and Healthy Homes (OLHCHH) Grant Programs for Fiscal Year (FY) 2014

AGENCY: Office of Lead Hazard Control and Healthy Homes, HUD.

ACTION: Announcement of funding awards.

SUMMARY: In accordance with Section 102(a)(4)(C) of the Department of Housing and Urban Development Reform Act of 1989, this announcement notifies the public of funding decisions made by the Department in competitions for funding under the Office of Lead Hazard Control and Healthy Homes (OLHCHH) Grant Program Notices of Funding Availability. This announcement contains the name and address of the award recipients and the amounts of awards under the Consolidated Appropriations Act, 2014, and prior-year appropriations.

FOR FURTHER INFORMATION CONTACT: Matthew E. Ammon, Department of Housing and Urban Development, Office of Lead Hazard Control and Healthy Homes, 451 Seventh Street SW., Room 8236, Washington, DC 20410, telephone 202-402-4337. Hearing- and speech- impaired persons may access the number above via TTY by calling the toll free Federal Relay Service at 1-800-877-8339.

SUPPLEMENTARY INFORMATION: For Fiscal Year 2013: HUD announced the FY 2013 Lead Based Paint Hazard Control grant awards on December 2, 2012, and published the Announcement of Funding Awards on June 27, 2013 at 78 FR 38730-38731. The State of Tennessee, 401 Church Street, L&C Tower 1st Floor, Nashville, TN 37243-1531, was awarded $2,500,000 as the result of a competition posted on the Internet at Grants.gov on August 9, 2012 for the Lead Based Paint Hazard Control grant programs (FR-5700-N-04). However, the State of Tennessee did not fulfil negotiation requirements to allow HUD to execute the grant. Therefore, HUD recaptured the awarded funds, and applied them to the FY 2014 Lead Based Paint Hazard Control grant program.

Funding Awards for FY 2014 Lead Based Paint Hazard Control Grant and Lead Hazard Reduction Demonstration Grant Programs

HUD announced the FY 2014 awards on September 30, 2014. These awards were the result of competitions published on May 23, 2014 at 79 FR 29791-29792 for Lead Based Paint Hazard Control and for Lead Hazard Reduction Demonstration Program (FR-5800-N-04). The purpose of the competitions was to award funding for grants for the Office of Lead Hazard Control and Healthy Homes Grant Programs.

Applications were scored and selected on the basis of selection criteria contained in these Notices. A total of $108,702,967 was awarded under the HUD Appropriations Act for FY 2014, namely the Consolidated Appropriations Act, 2014, (Pub. L. 113-76, approved January 17, 2014) and prior year appropriations. In accordance with Section 102(2)(4)(C) of the Department of Housing and Urban Development Reform Act of 1989 (103 Stat. 1987; 42 U.S.C. 3545), the Department is publishing the names, addresses, and the amount of these as follows:

1. Lead Based Paint Hazard Control Grant Program

A total of $55,025,719 was awarded to 20 applicants for the Lead Based Paint Hazard Control Grant Program and an additional $7,003,127 was awarded for the Healthy Homes Supplemental federal funds under the Consolidated Appropriations Act, 2014: City of Phoenix, 200 W. Washington Street, 4th Floor, Phoenix, AZ 85003-1611, $3,400,000; City of San Diego—Environmental Services Department, 9601 Ridgehaven Court Suite 310, San Diego, CA 92123-1636, $3,400,000; California Department of Community Services and Development, 2389 Gateway Oaks Drive, Suite 100, Sacramento, CA 95833-4246, $3,400,000; County of Alameda, 2000 Embarcadero, Suite #300, Oakland, CA 94606-5334, $3,400,000; Delaware Department of Health and Social Services, Division of Public Health, 417 Federal Street, Dover, DE 19901-3635, $3,288,728; City of Atlanta, 55 Trinity Avenue, Atlanta, GA 30303-3520, $2,500,000; City of Marshalltown, 24 North Center Street, Marshalltown, IA 50158-4911, $3,400,000.; City of Kankakee, 850 North Hobbie Ave, Kankakee, IL 60901-2617, $3,183,395; City of Lewiston, 27 Pine Street, Lewiston, ME 04240-7204, $3,395,159; County of Muskegon, 900 Terrace, Muskegon, MI 49442-3357, $1,100,000; City of Minneapolis, 250 S 4th St., Room 414, Minneapolis, MN 55415-1316, $3,400,000; Kansas City Missouri Health Department, 2400 Troost Ave, Suite 3400, Kansas City, MO 64108-2666, $3,216,136; County of St. Louis, 41 S. Central Avenue, 5th floor, Clayton, MO 63105-1725, $2,496,364; City of Nashua, NH, 229 Main Street, Nashua, NH 03060-2938, $3,400,000; New Hampshire Housing Finance Authority, 32 Constitution Drive, Bedford, NH 03110-6062, $3,400,000; Erie County, 95 Franklin Street, Buffalo, NY 14202-3904, $3,400,000; Monroe County Department of Public Health, 111 Westfall Road, Room 908, Rochester, NY 14620-4647, $3,270,000; City of Cincinnati, 3301 Beekman Street, Cincinnati, OH 45225-1205, $3,400,000; City of Roanoke, 215 Church Ave, Rm 310 North, Roanoke, VA 24011-1518, $2,179,064; City of Burlington, 149 Church Street, City Hall, Room 32, Burlington, VT 05401-8400, $3,400,000.

2. Lead Hazard Reduction Demonstration Grant Program

A total of $42,274,281was awarded to 13 applicants for the Lead Hazard Reduction Demonstration Grant Program and an additional $4,399,840 was awarded to 11 out of these 13 applicants for Healthy Homes Supplemental federal funds, under the Consolidated Appropriations Act, 2014: City of Los Angeles, 1200 W. 7th Street, 9th Floor, Los Angeles, CA 90017-2349, $3,900,000; City of Hartford, 131 Coventry Street, Hartford, CT 06112-1548, $3,900,000; Government of the District of Columbia, 1800 Martin Luther King Jr. Ave. SE., Suite 300, Washington, DC 20020-6900, $3,746,551; City of Chicago Department of Public Health, 333 South State Street, Room 200, Chicago, IL 60604-3946, $3,900,000; City of Detroit, 65 Cadillac Square Suite 2300, Detroit, MI 48226-2858, $3,637,000; City of St. Louis, 1520 Market Street, Suite 2000, St. Louis, MO 63101-2630, $2,500,000; Onondaga County Community Development Division, 1100 Mulroy Civic Center, Syracuse, NY 13202-2923, $3,900,000; City of Schenectady,105 Jay Street, Schenectady, NY 12305-1905, $3,190,570; City of Columbus, Department of Development, 50 West Gay Street 3rd Floor, Columbus, OH 43215-6005, $3,900,000; City of Providence, 444 Westminster Street, Providence, RI 02903-3206, $3,900,000; City of Fort Worth, 1000 Throckmorton Street, Fort Worth, TX 76102-6312, $2,400,000; City of Milwaukee Health Department, 841 North Broadway Room 118, Milwaukee, WI 53202-3653, $3,900,000; Kenosha County Division of Health, 8600 Sheridan Road, Suite 600, Kenosha, WI 53143-6515, $3,900,000.

Funding Awards for FY 2014 Healthy Homes Technical Studies and Lead Technical Studies Program

The 2014 Healthy Homes Technical Studies (HHTS) and Lead Technical Studies Program (LTS) pre-application Notice of Funding Availability (NOFA) was published on Grants.gov on June 2, 2014. The 2014 HHTS and LTS full-application NOFA was published on Grants.gov on July 30, 2014.

Applications were scored and selected on the basis of selection criteria contained in these Notices. A total of $3,611,050 was awarded under the Consolidated Appropriations Act, 2014 and prior year appropriations:

1. Healthy Homes Technical Studies

A total of $2,797,033 was awarded to 4 applicants for Healthy Homes Technical Studies Program under the Consolidated Appropriations Act, 2014: Purdue University, 155 S. Grant Street, West Lafayette, IN 47907-2114, $659,050; President and Fellows of Harvard College, 677 Huntington Avenue, Boston, MA 02115-6028, $724,726; Washington University, Campus Box 1054, One Brookings Drive, St. Louis, MO 63130-4862, $724,996; University of Cincinnati, 51 Goodman Drive, University Hall Suite 530, P.O. Box 210222, Cincinnati, OH 45221-0222, $688,261.

2. Lead Technical Studies

A total of $814,017 was awarded to 2 applicants for Lead Technical Studies (LTS) under the Consolidated Appropriations Act, 2014: Quan Tech, Inc., 6110 Executive Blvd., STE 480, Rockville, MD 20852-3954, $498,517; The Providence Plan, 10 Davol Square, Suite 300, Providence, RI 02903-3416, $315,500.

Date: June 24, 2015.
Matthew E. Ammon,
Director, Office of Lead Hazard Control and Healthy Homes.

[FR Doc. 2015-16046 Filed 6-29-15; 8:45 am]

BILLING CODE 4210-67-P